DEPARTMENT OF TRANSPORTATION

Office of the Secretary

Notice of Applications for Certificates of Public Convenience and Necessity and Foreign Air Carrier Permits Filed Under Subpart B (Formerly Subpart Q) During the Week Ending March 23, 2001

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-2000-7559.

Date Filed: March 30, 2001.

Due Date for Answers, Conforming Applications, or Motion to Modify Scope: April 16, 2001.

Description: Application of Atlas Air, Inc., pursuant to 49 U.S.C. section 40109(c), requesting (1) an emergency exemption to provide foreign scheduled air transportation of property and mail between Miami, on the one hand, and Manaus, Sao Paulo and Rio de Janeiro, Brazil, on the other, via points in South America and beyond Brazil to such points, on a pendente lite basis until issuance of a final order in the U.S.-Brazil All-Cargo case, (2) the temporary assignment of ten weekly frequencies for its services, and (3) prompt transmittal, through diplomatic channels, of a formal U.S. government note designating Atlas as the fourth U.S. scheduled all cargo airline to serve Brazil.

Docket Number: OST-2001-9311.

Date Filed: March 30, 2001.

Due Date for Answers, Conforming Applications, or Motion to Modify Scope: April 20, 2001.

Description: Application of Ogden Flight Services Group, Inc., pursuant to 49 U.S.C. section 41102, Subpart B and Section 204.3, requesting a certificate of public convenience and necessity to engage in (1) interstate charter air transportation of persons, property and mail, and, (2) foreign charter air transportation of persons, property and mail.

Dorothy Y. Beard,
Federal Register Liaison.

[FR Doc. 01-9245 Filed 4-12-01; 8:45 am]

BILLING CODE 4910-62-P